DEPARTMENT OF TRANSPORTATION

Federal Aviation Administration

14 CFR Part 39

[Docket No. FAA-2012-0794; Directorate Identifier 2006-SW-04-AD; Amendment 39-17319; AD 2013-01-05]

RIN 2120-AA64

Airworthiness Directives; Eurocopter France Helicopters

AGENCY: Federal Aviation Administration (FAA), DOT.

ACTION: Final rule.

SUMMARY: We are adopting a new airworthiness directive (AD) for Eurocopter France (Eurocopter) Model AS350B3 and EC130B4 helicopters. This AD requires revising the Limitations section of the Rotorcraft Flight Manual (RFM) to reduce the starter generator operating current to 180 amperes (amps) and installing a placard in the instrument panel indicating the revised limitation. This AD was prompted by the determination that the manufacturer-installed Aircraft Parts Corporation (APC) starter generator has exceeded the shaft horse power extractions allowed for Turbomeca engines. The actions of this AD are intended to prevent the engine surge margin being reduced, which can result in engine failure.

DATES: This AD is effective March 11, 2013.

ADDRESSES: For service information identified in this AD, contact American Eurocopter Corporation, 2701 Forum Drive, Grand Prairie, TX 75053-4005, telephone (800) 232-0323, fax (972) 641-3710, or at http://www.eurocopter.com. You may review the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Chinh Vuong, Aviation Safety Engineer, FAA, Rotorcraft Directorate, Safety Management Group, 2601 Meacham Blvd., Fort Worth, Texas 76137, telephone (817) 222-5110, fax (817) 222-5961, email chinh.vuong,@faa.gov.

SUPPLEMENTARY INFORMATION:

Discussion

On July 30, 2012, at 77 FR 44513, the Federal Register published our notice of proposed rulemaking (NPRM), which proposed to amend 14 CFR part 39 to include an AD that would apply to Model AS350B3 and EC130B4 helicopters with an APC 200-amp starter generator, part number 200SGL130Q, installed. That NPRM proposed to require, within the next 100 hours time-in-service (TIS), revising the Limitations section of the RFM to reduce the starter generator rating to 180 amps and installing a placard on the instrument panel below the vehicle engine multifunction display indicating the starter generator reduced limitation: “MAXIMUM CONTINUOUS GENERATOR LOAD 180A.” The proposed requirements were intended to prevent the engine surge margin being reduced, which can result in engine failure.

The European Aviation Safety Agency (EASA), which is the Technical Agent for the Member States of the European Union, has issued EASA AD No. 2006-0337, dated November 7, 2006, to correct an unsafe condition for the Eurocopter Model AS350B3 and EC130B4 helicopters. EASA advises that the power drawn by an APC 200 amp starter generator from the engine is above the consumption capacity for the specified Eurocopter model helicopters. Excessive power consumption of the starter generator reduces the engine surge margin, which can result in engine failure.

Comments

We gave the public the opportunity to participate in developing this AD, but we did not receive any comments on the NPRM (77 FR 44513, July 30, 2012).

FAA's Determination

These helicopters have been approved by the aviation authority of France and are approved for operation in the United States. Pursuant to our bilateral agreement with France, EASA, its technical representative, has notified us of the unsafe condition described in the EASA AD. We are issuing this AD because we evaluated all information provided by EASA and determined the unsafe condition exists and is likely to exist or develop on other helicopters of these same type designs and that air safety and the public interest require adopting the AD requirements as proposed.

Differences Between This AD and the EASA AD

We require that this AD be accomplished within 100 hours TIS, rather than 110 flight hours or 12 months as stated in the EASA AD.

Related Service Information

Eurocopter has issued Alert Service Bulletins (ASBs) No. 01.00.57 for the Model AS350B3 helicopters and No. 04A002 for the Model EC130B4 helicopters. Both ASBs are Revision 1 and both are dated September 14, 2006. The ASBs specify defining the limitation for the APC 200-amp starter generator. EASA classified these ASBs as mandatory and issued AD No. 2006-0337, dated November 7, 2006, to ensure the continued airworthiness of these helicopters.

Costs of Compliance

We estimate that this AD will affect 363 helicopters of U.S. Registry.

We estimate that operators may incur the following costs in order to comply with this AD. It will cost $21.25, assuming it takes 15 minutes to revise the RFM and install a placard on the instrument panel of each helicopter at an average labor rate of $85 per work hour, or $7,714 for the fleet.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-01-05 Eurocopter France: Amendment 39-17319; Docket No. FAA-2012-0794; Directorate Identifier 2006-SW-04-AD.

(a) Applicability

This AD applies to Model AS350B3 and EC130B4 helicopters with an Aircraft Parts Corporation 200-ampere (amp) starter generator, part number 200SGL130Q, installed, certificated in any category.

(b) Unsafe Condition

This AD defines the unsafe condition as excessive power consumption of the starter generator, which reduces the engine surge margin. This condition could result in engine failure and subsequent loss of control of the helicopter.

(c) Effective Date

This AD becomes effective March 11, 2013.

(d) Compliance

You are responsible for performing each action required by this AD within the specified compliance time unless it has already been accomplished prior to that time.

(e) Required Actions

Within the next 100 hours time-in-service:

(1) Revise Paragraph 2, Limitations, of the Rotorcraft Flight Manual Supplement 29 to reduce the maximum current of the starter generator to 180 amps Max. continuous.

(2) Install a placard, 125 millimeters long by 10 millimeters wide, on the instrument panel below the vehicle engine multifunction display indicating the starter generator reduced limitation: “MAXIMUM CONTINUOUS GENERATOR LOAD = 180A.”

(f) Alternative Methods of Compliance (AMOC)

(1) The Manager, Safety Management Group, Rotorcraft Directorate, FAA, may approve AMOCs for this AD. Send your proposal to: Chinh Vuong, Aviation Safety Engineer, FAA, Rotorcraft Directorate, Safety Management Group, 2601 Meacham Blvd., Fort Worth, Texas 76137, telephone (817) 222-5110, fax (817) 222-5961, email chinh.vuong@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

(1) Eurocopter Alert Service Bulletins No. 01.00.57 and No. 04A002, both Revision 1, and both dated September 14, 2006, which are not incorporated by reference, contain additional information about the subject of this AD. For service information identified in this AD, contact American Eurocopter Corporation, 2701 Forum Drive, Grand Prairie, TX 75053-4005, telephone (800) 232-0323, fax (972) 641-3710, or at http://www.eurocopter.com. You may review copies of the referenced service information at the FAA, Office of the Regional Counsel, Southwest Region, 2601 Meacham Blvd., Room 663, Fort Worth, Texas 76137.

(2) The subject of this AD is addressed in European Aviation Safety Agency AD No. 2006-0337, dated November 7, 2006.

(h) Subject

Joint Aircraft Service Component (JASC) Code: Starter-Generator 2435.

Issued in Fort Worth, Texas, on January 9, 2013.
Kim Smith,
Directorate Manager, Rotorcraft Directorate, Aircraft Certification Service.

[FR Doc. 2013-02236 Filed 2-1-13; 8:45 am]

BILLING CODE 4910-13-P